DEPARTMENT OF STATE

[Public Notice 3420]

Department of State Performance Review Board Members (At-Large Board)

In accordance with Section 4314(c)(4) of the Civil Service Reform Act of 1978 (Pub. L. 95-454), the Executive Resources Board of the Department of State has appointed the following individuals to the Department of State Performance Review Board (At-Large Board) register:

Todd F. Buchwald, Assistant Legal Advisor for Political and Military Affairs, Office of the Legal Advisor, Department of State;

Patrick R. Hayes, Executive Director, Bureau of Western Hemisphere Affairs, Department of State;

Edward J. Lacey, Deputy Assistant Secretary for Multilateral Affairs and Operations, Bureau of Verification and Compliance, Department of State;

LeRoy Lowery, III, Senior Inspector, Office of the Inspector General, Department of State;

Frank E. Moss, Executive Director, Bureau of Consular Affairs, Department of State;

Catherine Russell, Executive Director, Foreign Service Institute, Department of State; and

Brenda Saunders Sprague, Director, Office of Language Services, Bureau of Administration, Department of State.

Dated: September 12, 2000.
Marc Grossman,
Director General of the Foreign Service and Director of Human Resources, Department of State.

[FR Doc. 00-24033 Filed 9-18-00; 8:45 am]

BILLING CODE 4710-15-U